NATIONAL SCIENCE FOUNDATION

Notice of Permit Applications Received Under the Antarctic Conservation Act of 1978 (Pub. L. 95-541)

AGENCY: National Science Foundation

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 24, 2011. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

Permit Application: 2012-009

1. Applicant: Sam Feola, Director, Raytheon Polar Services Company, 7400 S. Tucson Way, Centennial, CO 80112.

Activity for Which Permit Is Requested

Enter Antarctic Specially Protected Areas. The applicant plans to enter the Antarctic Specially Protect Areas at Port Foster, Deception Island (ASPA 145), Western Bransfield Straight (ASPA 152), and Eastern Dallmann Bay (ASPA 153) for marine transit of U.S. Antarctic Program (USAP) research vessels, Nathaniel B. Palmer and the Lawrence M. Gould through the ASPA's listed above. Any transits through these areas would only occur when necessary in the best interests of the USAP. The ASPA's will be avoided whenever possible.

Location

ASPA 145-Port Foster, Deception Island, ASPA 152-Western Bransfield Straight, and ASPA 153-Eastern Dallmann Bay.

Dates

October 1, 2011 to September 30, 2014.

Nadene G. Kennedy,
Permit Officer, Office of Polar Programs.

[FR Doc. 2011-24358 Filed 9-21-11; 8:45 am]

BILLING CODE 7555-01-P